DEPARTMENT OF COMMERCE

International Trade Administration

[A-357-810]

Notice of Extension of Time Limit of Preliminary Results of Antidumping Duty Administrative Review: Oil Country Tubular Goods, Other Than Drill Pipe, from Argentina

AGENCY: Import Administration, International Trade Administration, Department of Commerce.

EFFECTIVE DATE: May 10, 2005.

FOR FURTHER INFORMATION CONTACT: Fred Baker at (202) 482-2924 or Robert James at (202) 482-0649; AD/CVD Operations, Office 7, Import Administration, International Trade Administration, U.S. Department of Commerce, 14th Street and Constitution Avenue NW., Washington, DC 20230.

SUPPLEMENTARY INFORMATION:

Background

On August 11, 1995 the Department published the antidumping duty order on oil country tubular goods (OCTG) from Argentina. See Antidumping Duty Order: Oil Country Tubular Goods from Argentina, 60 FR 41055 (August 11, 1995). On August 3, 2004 the Department published a notice of opportunity to request a review of this order. See Antidumping or Countervailing Duty Order, Finding, or Suspended Investigation; Opportunity to Request Administrative Review, 69 FR 46496 (August 3, 2004). On August 31, 2004, in accordance with 19 CFR 351.213(b)(1), the Department received a timely and properly filed request from United States Steel Corporation, a petitioner in the original investigation, for a review of the imports by producer Siderca S.A.I.C.

On September 22, 2004, the Department published a notice of initiation of this administrative review covering the period August 1, 2003 through July 31, 2004. See Initiation of Antidumping and Countervailing Duty Administrative Reviews and Request for Revocation in Part, 69 FR 56745 (September 22, 2004). The preliminary results of this review are currently due no later than May 3, 2005.

Extension of Time Limits for Preliminary Results

Pursuant to section 751(a)(3)(A) of the Tariff Act of 1930, as amended (the Tariff Act), the Department shall issue preliminary results in an administrative review of an antidumping duty order within 245 days after the last day of the anniversary month of the date of publication of the order for which a review is requested, and the final results within 120 days after the date on which the preliminary results are published. However, if it is not practicable to complete the review within this time period, section 751(a)(3)(A) of the Tariff Act allows the Department to extend these deadlines to a maximum of 365 days and 180 days respectively.

The Department finds that it is not practicable to complete the preliminary results in the administrative review of OCTG from Argentina within the originally anticipated time limit (i.e., by May 3, 2005) because significant questions have arisen regarding whether or not Siderca had any entries of subject merchandise for consumption during the period of review. As a result, the Department needs additional time in order to obtain and analyze relevant documents from U.S. Customs and Border Protection. Therefore, the Department is extending the time limit for completion of the preliminary results by 70 days until no later than July 12, 2005, in accordance with section 751(a)(3)(A) of the Tariff Act. The final results continue to be due 120 days after the publication of the preliminary results.

This notice is published in accordance with section 751(a)(1) and 777(i)(1) of the Tariff Act.

Dated: May 3, 2005.
Barbara E. Tillman,
Acting Deputy Assistant Secretary for Import Administration.

[FR Doc. E5-2241 Filed 5-9-05; 8:45 am]

BILLING CODE 3510-DS-S